DEPARTMENT OF THE INTERIOR

Bureau of Land Management

[AK-963-1410-ET; AA-12484]

Notice of Proposed Withdrawal Extension and Opportunity for Public Meeting; Alaska

AGENCY: Bureau of Land Management, Interior.

ACTION: Notice.

SUMMARY: The United States Department of Agriculture (USDA), Forest Service has filed an application with the Bureau of Land Management that proposes to extend the duration of Public Land Order (PLO) No. 6965 for an additional 20-year period. This order withdrew approximately 685 acres of National Forest System land from settlement, sale, location, or entry under the general land laws, including the United States mining laws, (30 U.S.C. Ch. 2 (2006)), to protect a research natural area. This notice gives an opportunity to comment on the proposed action and to request a public meeting.

DATES: Comments and requests for a public meeting must be received by December 10, 2009.

ADDRESSES: Comments and meeting requests should be sent to the Alaska State Director, BLM Alaska State Office, 222 West 7th Avenue, No. 13, Anchorage, Alaska 99513-7504.

FOR FURTHER INFORMATION CONTACT: Ramona Chinn, BLM Alaska State Office, 907-271-3806 or at the address above.

SUPPLEMENTARY INFORMATION: The withdrawal created by PLO No. 6965 (58 FR 19612, April 15, 1993), will expire on April 14, 2013, unless extended. The USDA Forest Service has filed an application to extend the withdrawal for an additional 20-year period to protect the natural ecological complex of the USDA Forest Service Natural Area.

This withdrawal comprises approximately 685 acres of National Forest System land located within:

Copper River Meridian

T. 79 S., R. 94 E.,

Secs. 30 and 31,

T. 79 S., R. 93 E.,

Secs. 25 and 36, as described in PLO No. 6965 (58 FR 19612, April 15, 1993).

A complete description, along with all other records pertaining to the extension application, can be examined in the BLM Alaska State Office at the address shown above.

As extended, the withdrawal would not alter the applicability of those public land laws governing the use of land under lease, license, or permit or governing the disposal of the mineral or vegetative resources other than under the mining laws.

The use of a right-of-way or interagency or cooperative agreement would not adequately protect the Federal interest in the Dog Island Research Natural Area.

There are no suitable alternative sites available that could be substituted for the above described public land, since the Dog Island Research Natural Area is unique.

No water rights would be needed to fulfill the purpose of the requested withdrawal extension.

For a period of 90 days from the date of publication of this notice, all persons who wish to submit comments, suggestions, or objections in connection with the proposed withdrawal extension may present their views in writing to the BLM Alaska State Director at the address indicated above. Before including your address, phone number, e-mail address, or other personal identifying information in your comment, you should be aware that your entire comment—including your personal identifying information—may be made publicly available at any time. While you can ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested parties who desire a public meeting for the purpose of being heard on the proposed withdrawal must submit a written request to the BLM Alaska State Director within 90 days from the date of publication of this notice. Upon determination by the authorized officer that a public meeting will be held, a notice of the time and place will be published in the Federal Register at least 30 days before the scheduled date of the meeting.

The withdrawal extension proposal will be processed in accordance with the regulations set forth in 43 CFR 2310.4 and subject to Section 810 of the Alaska National Interest Lands Conservation Act, 16 U.S.C. 3120 (2006).

(Authority: 43 CFR 2310.3-1(b))

Ramona Chinn,
Deputy State Director, Division of Alaska Lands.

[FR Doc. E9-21927 Filed 9-10-09; 8:45 am]

BILLING CODE 4310-JA-P